FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 5, 2014.

A. Federal Reserve Bank of Atlanta (Chapelle Davis, Assistant Vice President) 1000 Peachtree Street NE., Atlanta, Georgia 30309:

1. Louisiana Bancorp, Inc. Employee Stock Ownership Plan, and Carolyn Marie Fink, as trustee, both of Metairie, Louisiana; to acquire additional shares of Louisiana Bancorp, Inc., and thereby indirectly acquire additional voting shares of Bank of New Orleans, both in Metairie, Louisiana.

B. Federal Reserve Bank of Kansas City (Dennis Denney, Assistant Vice President) 1 Memorial Drive, Kansas City, Missouri 64198-0001:

1. The Charles & Donna Moyer Irrevocable Trust; Cambell Moyer, individually and as trustee; Melynda Moyer, Emily Moyer Jasnowski, and Tess Moyer, all of Aurora, Nebraska; Steve Arnett and Maggie Arnett, both of Wood River, Nebraska; Scott Moyer, San Francisco, California; Tom Moyer, Arvada, Colorado; Andrew Moyer and Alexa Moyer, both of Omaha, Nebraska; Chris Moyer, Pasadena, California; Steve Moyer, New York, New York; Michelle Moyer, Brooklyn, New York; Eleanor Jane Moyer, Grand Island, Nebraska; and Judy Moyer, Sun City West, Arizona; all as members of the Moyer Family Group, to retain voting shares of Heritage Group, Inc., Aurora, Nebraska, and thereby indirectly retain voting shares of Heritage Bank, Wood River, Nebraska.

Board of Governors of the Federal Reserve System, November 17, 2014.
Michael J. Lewandowski,
Associate Secretary of the Board.

[FR Doc. 2014-27492 Filed 11-19-14; 8:45 am]

BILLING CODE 6210-01-P